DEPARTMENT OF DEFENSE

Office of the Secretary

Proposed Collection; Comment Request

AGENCY: Office of the Under Secretary of Defense (Personnel and Readiness).

ACTION: Notice.

In compliance with section 3506(c)(2)(A) of the Paperwork Reduction Act of 1995, the Office of the Under Secretary of Defense (Personnel and Readiness) announces the following proposed reinstatement of a public information collection and seeks public comment on the provisions thereof. Comments are invited on: (a) whether the proposed collection of information is a necessary for the proper performance of the functions of the agency, including whether the information shall have practical utility; (b) the accuracy of the agency's estimate of burden of the proposed information collection; (c) ways to enhance the quality, utility, and clarity of the information to be collected; and (d) ways to minimize the burden of the information collection on respondents, including through the use of automated collection techniques or other forms of information technology.

DATES: Consideration will be given to all comments received by August 31, 2001.

ADDRESSES: Written comments and recommendations on the proposed information collection should be sent to the Office of the Under Secretary of Defense (Personnel and Readiness) (Force Management Policy/Military Personnel Policy/Compensation), ATTN: Thomas R. Tower, 4000 Defense Pentagon, Washington, DC 20301-4000.

FOR FURTHER INFORMATION CONTACT: To request more information on this proposed information collection or to obtain a copy of the proposal and associated collection instruments, please write to the above address or call (703) 693-1059.

Title, Associated Form, and OMB Control Number: Application for Annuity Certain Military Surviving Spouses, Form #: DD Form 2769, OMB Number: 0704-0402.

Needs and Uses: This information collection requirement is necessary to identify and pay surviving spouses who meet the criteria established for benefits under the provisions of The National Defense Authorization Act for Fiscal Year 1998, Public Law 105-85, Section 644, as amended. The DD Form 2769, “Application for Annuity—Certain Military Surviving Spouses,” used in this information collection, provides a vehicle for the surviving spouse to apply for the annuity benefit. The Department will use this information to determine if the applicant is eligible for the annuity benefit and make payment to the surviving spouse. The respondents of this information collection are a never-remarried surviving spouse of a member of a Uniformed Service who (1) died before March 21, 1974, and was entitled to retired or retainer pay on the date of death, or (2) was a member of a Reserve Component of the Armed Forces who died before October 1, 1978 and on the date of death would have been entitled to retired pay except for not yet being 60 years of age.

Affected Public: Individuals.

Annual Burden Hours: 200.

Number of Respondents: 200.

Responses Per Respondent: 1.

Average Burden per Response: 1 hour.

Frequency: On occasion.

SUPPLEMENTARY INFORMATION:

Summary of Information Collection

The National Defense Authorization Act of FY 1998, Public Law 105-85, section 644, requires the Secretary of Defense to pay an annuity to qualified surviving spouses. As required by the Act, no benefit shall be paid to any person under this section unless an application for such benefit is filed with the Secretary concerned by or on behalf of such person. This information collection is needed to obtain the necessary data so that the Department can determine is the applicant is eligible for the annuity benefit and make payment to the surviving spouse.

Dated: June 25, 2001.
Patricia L. Toppings,
Alternate OSD Federal Register Liaison Officer Department of Defense.

[FR Doc. 01-16537 Filed 6-29-01; 8:45 am]

BILLING CODE 5001-08-M